DEPARTMENT OF COMMERCE

International Trade Administration

United States Travel and Tourism Promotion Advisory Board; Notice of Meeting

AGENCY: International Trade Administration, U.S. Department of Commerce.

ACTION: Notice of Open Meeting.

Date: September 8, 2003.

Time: 9:30 a.m. to 12:30 p.m.

Place: Ellis Island, NY.

SUMMARY: The United States Travel and Tourism Promotion Advisory Board (“Board”) will hold its inaugural meeting on September 8, 2003 at Ellis Island, NY.

The Board will discuss the design, development and subsequent implementation of an international advertising and promotional campaign, which will seek to encourage individuals from select countries to travel to the United States for the express purpose of engaging in tourism. The meeting will be open to the public. Time will be permitted for public comment.

Written comments concerning Board affairs are welcome anytime before or after the meeting. Written comments should be directed to Julie Heizer, Office of Travel and Tourism Industries, International Trade Administration, U.S. Department of Commerce, 1401 Constitution Avenue, NW, Room 7025, Washington, DC 20230; via fax at (202) 482-4272; or, via e-mail at promotion@tinet.ita.doc.gov. Minutes will be available within 30 days of this meeting.

The Board is mandated by Pub. L. 108-7, Section 210. As directed by Pub. L. 108-7, Section 210, the Secretary of Commerce shall design, develop and implement an international advertising and promotional campaign, which seeks to encourage individuals to travel to the United States. The Board shall recommend to the Secretary of Commerce the appropriate coordinated activities for funding. This campaign shall be a multi-media effort that seeks to leverage the Federal dollars with contributions of cash and in-kind products unique to the travel and tourism industry. The Board was chartered in August of 2003 and will expire on August 8, 2005.

Ellis Island is accessible by Circle Line-Statue of Liberty Ferry, Inc. ferries only. There is a fee to take Circle Line-Statue of Liberty Ferry boats. Ferries depart from Battery Park in New York City and Liberty State Park in Jersey City, New Jersey. Persons attending this meeting should allow ample time to clear security. All passengers will be screened before they board the Circle Line-Statue of Liberty Ferry boats, and there will be restrictions on backpacks and luggage. Visitors are advised to arrive early, leaving up to one hour for processing through the security system.

For further information phone Cary Justice, Office of Service Industries, Tourism and Finance (SITF), International Trade Administration, U.S. Department of Commerce at (202) 482-2560. This meeting is physically accessible to people with disabilities. Requests for sign language interpretation or other auxiliary aids should be directed to SITF.

Dated: August 15, 2003.
Cary G. Justice,
Special Assistant, Office of Service Industries, Tourism, and Finance.

[FR Doc. 03-21303 Filed 8-19-03; 8:45 am]

BILLING CODE 3510-DR-P